FEDERAL MARITIME COMMISSION

Ocean Transportation Intermediary License; Revocations

The Federal Maritime Commission hereby gives notice that the following Ocean Transportation Intermediary licenses have been revoked pursuant to section 19 of the Shipping Act of 1984 (46 U.S.C. Chapter 409) and the regulations of the Commission pertaining to the licensing of Ocean Transportation Intermediaries, 46 CFR Part 515, effective on the corresponding date shown below:

License Number: 001912F.

Name: Air-Ship Packers, Inc.

Address: 530 East Goetz Ave., Santa Ana, CA 92707.

Date Revoked: September 27, 2008.

Reason: Failed to maintain a valid bond.

License Number: 021125N.

Name: Ebayanbox.com. Inc.

Address: 100 North Brand Blvd., Glendale, CA 91203.

Date Revoked: September 26, 2008.

Reason: Failed to maintain a valid bond.

License Number: 001832NF.

Name: Rohde & Liesenfeld Inc. dba Windrose Line.

Address: 240 West 35th Street, Ste. 1201, New York, NY 10001.

Date Revoked: September 18, 2008.

Reason: Surrendered license voluntarily.

License Number: 018573F.

Name: Joe Souquette dba Souquette Forwarding International.

Address: 8531 Farralone Ave., West Hills, CA 91304.

Date Revoked: September 27, 2008.

Reason: Failed to maintain a valid bond.

License Number: 019267N.

Name: Seagold (USA), Inc.

Address: 262 West 38th Street, Ste 406, New York, NY 10018.

Date Revoked: September 26, 2008.

Reason: Failed to maintain a valid bond.

Sandra L. Kusumoto,
Director, Bureau of Certification and Licensing.

[FR Doc. E8-23871 Filed 10-7-08; 8:45 am]

BILLING CODE 6730-01-P